NATIONAL AERONAUTICS AND SPACE ADMINISTRATION

[Notice 02-099]

National Environmental Policy Act; NASA Ames Development Plan

AGENCY: National Aeronautics and Space Administration (NASA).

ACTION: Notice of availability of the Final Programmatic Environmental Impact Statement (FPEIS) for the NASA Ames Development Plan (NADP).

SUMMARY: Pursuant to the National Environmental Policy Act of 1969 (NEPA), as amended (42 U.S.C. 4321 et seq.), the regulations of the Council on Environmental Quality for implementing the procedural provisions of NEPA (40 CFR parts 1500-1508), and NASA “Procedures for Implementing the National Environmental Policy Act (NEPA)” (14 CFR part 1216 subpart 1216.3), NASA has prepared a FPEIS for the proposed NADP. The purpose of the FPEIS is to assess the environmental consequences associated with development under the proposed NADP, which is intended to bring new research and development (R&D) uses to the NASA Ames Research Center (ARC) in Santa Clara County, California. NASA is planning to develop a world-class, shared-used educational and R&D campus focused on astrobiology, life sciences, space sciences, nanotechnology, biotechnology, information technology and aeronautics. As part of the NADP, NASA officials plan to create partnerships with federal, state and local government agencies, universities, private industry and non-profit organizations in support of NASA's mission to conduct research and develop new technologies.

DATES: NASA will take no final action on the NADP before September 9, 2002, or 30 days from the date of publication in the Federal Register of the U.S. Environmental Protection Agency's Notice of Availability of the NADP FPEIS, whichever is later.

ADDRESSES: The FPEIS can be reviewed at the following locations:

(a) Mountain View Public Library, Reference Section, 585 Franklin Street, Mountain View, CA (650-903-6887).

(b) Sunnyvale Public Library, Reference Section, 665 West Olive Avenue, Sunnyvale, CA (650-730-7300).

(c) NASA Headquarters, Library, Room lJ20, 300 E Street SW, Washington, DC 20546 (202-358-0167).

(d) Access electronically at http://researchpark.arc.nasa.gov.

In addition, the FPEIS may be examined at the following locations through the NASA Freedom of Information Act Offices as follows:

(a) NASA, Dryden Flight Research Center, P.O. Box 273, Edwards, CA 93523 (661-276-2704).

(b) NASA, Glenn Research Center at Lewis Field, 21000 Brookpark Road, Cleveland, OH 44135 (216-433-2755).

(c) NASA, Goddard Space Flight Center, Greenbelt Road, Greenbelt, MD 20771 (301-286-0730).

(d) Jet Propulsion Laboratory, Visitors Lobby, Building 249, 4800 Oak Grove Drive, Pasadena, CA 91109 (818-354-5179).

(e) NASA, Johnson Space Center, Houston, TX 77058 (281-483-8612).

(f) Spaceport U.S.A., Room 2001, John F. Kennedy Space Center, FL 32899. Please call Lisa Fowler at 321-867-2201 in advance.

(g) NASA, Langley Research Center, Hampton, VA 23681 (757-864-2497).

(h) NASA, Marshall Space Flight Center, Huntsville, AL 35812 (256-544-2030).

(i) NASA, Stennis Space Center, MS 39529 (228-688-2164).

FOR FURTHER INFORMATION CONTACT: Sandy Olliges, NASA, Ames Research Center, M.S. 218-1/Building 218, Moffett Field, CA 94035-1000; telephone 650-604-3355; electronic mail (solliges@mail.arc.nasa.gov).

SUPPLEMENTARY INFORMATION: In 1991, the Federal Base Closure and Realignment Commission decided to close Moffett Field Naval Air Station. Subsequently, the U.S. Department of Defense transferred stewardship of the property to NASA. NASA took over administration of Moffett Field in 1994. The immediate issues were how to use the newly acquired land in a manner consistent with NASA's mission, and how to pay for the maintenance and operations of such a large site. These matters were originally addressed in the Moffett Field Comprehensive Use Plan (CUP) and its associated Environmental Assessment (EA), which resulted in a Finding of No Significant Impact (FONSI) in 1994. After the transfer of the property, local community leaders formed a Community Advisory Committee (CAC) and recommended uses for the newly acquired land. The uses proposed in the NADP are consistent with the CAC recommendations.

In addition to the activities described in the CUP, NASA now proposes to develop the NASA Research Park (NRP) and other areas by building on the full range of existing high-technology and aviation resources at Moffett Field and creating partnerships with Federal, State, and local governmental agencies, universities, private industry and non-profit organizations in support of NASA's mission to develop new scientific knowledge and technologies. With the help of these collaborative organizations and consistent with its mission, NASA proposes to develop a world-class, shared-use educational and R&D campus focused on the advancement of human knowledge about nanotechnology, information technology, biotechnology, astrobiology, life sciences, space sciences and aeronautics. By integrating public and private R&D efforts at the NRP, NASA would create a hub for technology transfer, stay involved with cutting-edge technology advances, and facilitate the commercial applications of NASA's basic scientific research.

Alternatives for the development at the Center in the FPEIS include:

Alternative 1: The No Action Alternative. Under the No Action (a.k.a. No Project) Alternative, NASA would not propose new development for ARC at this time. However, NASA would implement several projects at ARC that are already approved pursuant to the NASA ARC CUP EA and FONSI, and the California Air National Guard Master Plan EA and FONSI.

Alternative 2: In Alternative 2, NASA proposes to develop approximately 360,000 square meters (3.9 million square feet) of new space in the NRP, Bay View, and Eastside/Airfield areas. Within the NRP area, there would be approximately 190,000 square meters (2 million square feet) of new educational, office, research and development, museum, conference center, housing and retail development. Approximately 52,000 square meters (560,000 square feet) of existing non-historic structures would be demolished, and approximately 46,000 square meters (500,000 square feet) of existing space would be renovated. In this alternative, NASA proposes approximately 121,000 square meters (1.3 million square feet) of new educational and housing development in the Bay View area, and approximately 51,000 square meters (550,000 square feet) of new low density research and development and light industrial space. Hangars 2 and 3 in the Eastside Airfield area would be renovated. Total build out under this alternative would be approximately 845,000 square meters (9.1 million square feet).

Alternative 3: Based on the ideas of Traditional Neighborhood Design, NASA, in Alternative 3, would create a new mixed-use development within the NRP. In this alternative, NASA proposes to: (1) Add approximately 280,000 square meters (3 million square feet) of new educational, office, research and development, museum, conference center, housing and retail development, (2) demolish approximately 52,000 square meters (560,000 square feet) of non-historic structures, and (3) renovate approximately 46,000 square meters (500,000 square feet) of existing space. NASA does not propose any new construction in the Bay View or Eastside/Airfield areas, although Hangars 2 and 3 in the Eastside/Airfield area would be renovated for low-intensity research and development or light industrial uses. The total build out under Alternative 3 would be approximately 760,000 square meters (8.2 million square feet).

Alternative 4: In Alternative 4, NASA would concentrate more of the new development in the Bay View area than it would in the other alternatives, while creating less dense development in the NRP area. In Alternative 4, NASA proposes to: (1) Add approximately 145,000 square meters (1.6 million square feet) of new educational office, research and development, museum, conference center, housing and retail space in the NRP area, (2) demolish approximately 52,000 square meters (560,000 square feet) of non-historic structures and (3) renovate approximately 46,000 square meters (500,000 square feet) of existing space. In the Bay View area, NASA proposes approximately 251,000 square meters (2.7 million square feet) of new office, research and development, laboratory, educational, and student/faculty housing development. In the Eastside/ Airfield area, NASA proposes to (1) create approximately 62,000 square meters (670,000 square feet) of new light industrial, research and development, office and educational facility development, and (2) renovate the historic hangars. The total build out under Alternative 4 would be approximately 940,000 square meters (10.1 million square feet).

Alternative 5: Under Alternative 5, NASA would allow some new construction in each of the four development areas, but would concentrate most of this construction in the NRP area. In this alternative, NASA proposes to: (1) Add approximately 192,000 square meters (2.1 million square feet) of new educational, office, research and development, museum, conference center, housing and retail space in the NRP Area, (2) demolish approximately 52,000 square meters (560,000 square feet) of non-historic structures, and (3) renovate approximately 56,000 square meters (600,000 square feet) of existing space. In the Bay View area, NASA proposes to add approximately 93,000 square meters (1 million square feet) of new development, primarily for housing. In the Eastside/Airfield area, NASA proposes to construct approximately 1,115 square meters (12,000 square feet) of new space in a new control tower to replace the existing control tower that would be demolished in the NRP area. Finally, in the Ames Campus area, NASA proposes to demolish approximately 37,000 square meters (400,000 square feet) of existing buildings to make way for 46,000 square meters (500,000 square feet) of high density office and research and development space. Total build out under Alternative 5 would be approximately 780,000 square meters (8.4 million square feet).

Mitigated Alternative 5: The Preferred Alternative Under Mitigated Alternative 5, development would be the same as in Alternative 5, with several exceptions. In the NRP area, the land area of parcel 1, which is proposed to accommodate the Lab Project proposed under the baseline, would be decreased. The development potential of this parcel would be kept the same through an increase in the parcel's allowed Floor Area Ratio (FAR). The land area of NRP Parcel 6, which is proposed for housing, would be increased, with a corresponding increase in its development potential. As well, a portion of building 19 and all of building 20 would be redesigned for use as dormitory housing. This would be in keeping with the historic use of these buildings, which were originally built as enlisted personnel and officer's housing respectively.

To accommodate additional housing, the land area of Bay View Parcel 1, which is designated for housing would be increased, as would the parcel's allowable FAR. However, the area of other parcels proposed for development was decreased, so the total land area proposed for development in the Bay View would remain the same. In the Bay View area, 1,120 townhomes and apartment units would be provided, as compared to 750 under Alternative 5 without mitigation.

The residential development in the Bay View area would occur in the 100-year floodplain. This site is the only on-site location suitable for the additional housing, which is required to help mitigate the significant environmental impacts on the jobs/housing imbalance and traffic. Fill would be added to approximately 23 acres to bring the finished grade above the 100-year floodplain elevation. No adverse impacts to human health or the environment are expected to result.

NASA has selected Mitigated Alternative Five as the Preferred Alternative. The Preferred Alternative has been identified as the option that best meets NASA's purpose and need, and has the fewest significant environmental impacts. However, even with the proposed mitigation measures, there would be significant impacts to air quality, traffic, and the jobs/housing imbalance.

The FPEIS also includes the General Conformity Determination for Carbon Monoxide, which is provided in Appendix D of the FPEIS. Although more than 100 tons per year of carbon monoxide would be generated by the preferred alternative, no violation of National Ambient Air Quality Standards is expected.

Pursuant to section 7 of the Endangered Species Act, NASA has conducted informal consultation with the U.S. Fish and Wildlife Service, and has prepared a Biological Assessment to describe the effects of the proposed action on the federally listed species at the site. No adverse effect is expected from implementation of the preferred alternative. The Biological Assessment is provided as Appendix E to the FPEIS.

Pursuant to the National Historic Preservation Act (NHPA), NASA has prepared a Historic Resources Protection Plan (HRPP) for the Shenandoah Plaza Historic District in the proposed NRP, and a Programmatic Agreement (PA) with the Advisory Council on Historic Preservation and the California State Historic Preservation Officer, to adopt and implement the HRPP. Under the proposed action, most noncontributing structures in the Historic District would be demolished, along with the non-historic buildings in the NRP that are outside the Historic District. Historic District infill and new construction in the area of potential effect would comply with the NHPA. No adverse effect is expected from implementation of the preferred alternative. The HRPP and PA are in appendix G of the FPEIS.

NASA has prepared a consistency determination for the entire NADP project relative to the Coastal Zone Management Act administered by the Bay Conservation and Development Commission (BCDC). This consistency determination was submitted to BCDC on April 12, 2002, with additional information submitted on May 29 and July 9, 2002. This consistency determination concluded that the proposed NADP would be consistent to the maximum extent practicable with the Bay Plan, McAteer-Petris Act, and the Coastal Zone Management Act. BCDC concurred with NASA's consistency determination on July 18, 2002.

Future projects implemented pursuant to the NADP will be evaluated for NEPA compliance by the NASA ARC Environmental Services Office to determine if the project's environmental impacts were adequately described in the FPEIS. Any applicable mitigation measures will also be identified. If the project is not adequately covered by the FPEIS, then NASA will determine what level of additional NEPA analysis may be required. In addition to the NEPA review, NASA will review its partners' proposed projects for compliance with the NADP Design Guide, the Transportation Demand Management Program, the Historic Resources Protection Plan, and the Environmental Issues Management Plan, which are described in the FPEIS, as well as with Federal, State, and local environmental, health, and safety laws, regulations, and ordinances; Executive Orders; NASA ARC policies; and other applicable codes and standards.

Dated: August 14, 2002.
Jeffrey E. Sutton,
Assistant Administrator for Management Systems.

[FR Doc. 02-21201 Filed 8-19-02; 8:45 am]

BILLING CODE 7510-01-P